DEPARTMENT OF TRANSPORTATION

Coast Guard

[CGD08-01-046]

Houston/Galveston Navigation Safety Advisory Committee Meetings

AGENCY: Coast Guard, DOT.

ACTION: Notice of meetings.

SUMMARY: The Houston/Galveston Navigation Safety Advisory Committee (HOGANSAC) and its working groups will meet to discuss waterway improvements, aids to navigation, area projects impacting safety on the Houston Ship Channel, and various other navigation safety matters in the Galveston Bay area. All meetings will be open to the public.

DATES: The next meeting of HOGANSAC will be held on Thursday, February 7, 2002 from 9 a.m. to approximately 12 noon. The meeting of the Committee's working groups will be held on Thursday, January 10, 2002 at 9 a.m. to approximately 11 a.m. The meetings may adjourn early if all business is finished. Members of the public may present written or oral statements at either meeting.

ADDRESSES: The full Committee meeting will be held at the Port of Houston Authority Building, 111 East Loop North, Houston, Texas (713-670-2400). The working groups' meeting will be held at the offices of the Galveston-Texas City Pilots, Pelican Island, Galveston, Texas (409-740-3690).

FOR FURTHER INFORMATION CONTACT: Captain Kevin Cook, Executive Director of HOGANSAC, telephone (713) 671-5199; Commander Peter Simons, Executive Secretary of HOGANSAC, telephone (713) 671-5164; or Lieutenant Junior Grade Kelly Tobey, assistant to the Executive Secretary of HOGANSAC, telephone (713) 671-5103, e-mail katobey@vtshouston.uscg.mil.

SUPPLEMENTARY INFORMATION: Notice of this meeting is given pursuant to the Federal Advisory Committee Act, 5 U.S.C. App. 2.

Agendas of the Meetings

Houston/Galveston Navigation Safety Advisory Committee (HOGANSAC)

The tentative agenda includes the following:

(1) Opening remarks by the Committee Sponsor (RADM Casto) (or the Committee Sponsor's representative), Executive Director (CAPT Cook) and Chairman (Tim Leitzell).

(2) Approval of the October 17, 2001 minutes.

(3) Old Business.

(a) Dredging projects.

(b) Electronic navigation.

(c) AtoN Knockdown Working Group.

(d) Mooring subcommittee report.

(e) 2002 Harbor Safety Conference plans.

(f) Texas City Container Terminal update.

(g) Bolivar Roads anchorage areas.

(h) Recreational boating education initiative.

(4) New Business.

(a) State of the Waterway.

(b) Bayport Terminal project.

(c) Swimmers near Lynchburg.

(d) Corps of Engineers survey data reporting.

Working Groups Meeting.

The tentative agenda for the working committee meeting includes the following:

(1) Presentation by each working group of its accomplishments and plans for the future.

(2) Review and discuss the work completed by each working group.

Working groups have been formed to examine the following issues: Dredging and related issues, electronic navigation systems, AtoN knockdowns, impact of passing vessels on moored ships, recreational boater education issues, and the 2002 Harbor Safety Conference. All working groups may not necessarily report out at this session, however, working group discussions not reported out at this February meeting will be addressed at a future HOGANSAC meeting. Further, all working group reports may not necessarily include discussions on all issues within the particular working group's area of responsibility. All meetings are open to the public. Please note that the meetings may adjourn early if all business is finished. Members of the public may make presentations, oral or written, at either meeting.

Information on Services for the Handicapped

For information on facilities or services for the handicapped or to request special assistance at the meetings, contact the Executive Director, Executive Secretary, or assistant to the Executive Secretary.

Dated: December 10, 2001.
Roy J. Casto,
Rear Admiral, U.S. Coast Guard, Commander, Eight Coast Guard District.

[FR Doc. 01-31393 Filed 12-19-01; 8:45 am]

BILLING CODE 4910-15-U